DEPARTMENT OF TRANSPORTATION

Federal Aviation Administration

14 CFR Part 39

[Docket No. FAA-2015-3929; Directorate Identifier 2015-SW-031-AD]

RIN 2120-AA64

Airworthiness Directives; Airbus Helicopters

AGENCY: Federal Aviation Administration (FAA), DOT.

ACTION: Notice of proposed rulemaking (NPRM).

SUMMARY: We propose to adopt a new airworthiness directive (AD) for Airbus Helicopters Model EC130B4, EC130T2, AS350B, AS350B1, AS350B2, AS350B3, AS350BA, AS350C, AS350D, AS350D1, AS355E, AS355F, AS355F1, AS355F2, AS355N, and AS355NP helicopters. This proposed AD would require inspecting each bi-directional suspension cross-bar (cross-bar) for a crack. This proposed AD is prompted by two reports of cracks in a cross-bar. The proposed actions are intended to detect cracks in a cross-bar and prevent failure of the cross-bar and subsequent loss of control of the helicopter.

DATES: We must receive comments on this proposed AD by June 10, 2016.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2015-3929 or in person at the Docket Operations Office between 9 a.m. and 5 p.m., Monday through Friday, except Federal holidays. The AD docket contains this proposed AD, the European Aviation Safety Agency (EASA) AD, the economic evaluation, and other information. The street address for the Docket Operations Office (telephone 800-647-5527) is in the ADDRESSES section. Comments will be available in the AD docket shortly after receipt.

For service information identified in this proposed rule, contact Airbus Helicopters, 2701 N. Forum Drive, Grand Prairie, TX 75052; telephone (972) 641-0000 or (800) 232-0323; fax (972) 641-3775; or at http://www.airbushelicopters.com/techpub. You may review the referenced service information at the FAA, Office of the Regional Counsel, Southwest Region, 10101 Hillwood Pkwy., Room 6N-321, Fort Worth, TX 76177.

FOR FURTHER INFORMATION CONTACT: Robert Grant, Aviation Safety Engineer, Safety Management Group, FAA, 10101 Hillwood Pkwy., Fort Worth, TX 76177; telephone (817) 222-5110; email robert.grant@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

EASA, which is the Technical Agent for the Member States of the European Union, has issued EASA AD No. 2015-0094, dated May 29, 2015, to correct an unsafe condition for Airbus Helicopters Model AS350B, AS350BA, AS350BB, AS350B1, AS350B2, AS350B3, AS350D, AS355E, AS355F, AS355F1, AS355F2, AS355N, AS355NP, EC130B4, and EC130T2 helicopters. EASA advises that two cases of cracks in a cross-bar were reported on AS350B3 helicopters. The cracks were found at the transmission deck attachment fitting holes during a maintenance check, EASA states. According to EASA, in both cases, the helicopters were equipped with a cargo hook and had completed missions with a significant number of torque cycles. Because of common design features, cracks may also occur on other Model AS350-series, AS355-series, and EC130-series helicopters. EASA advises that crack growth may lead to failure of one of the four yokes and significantly increased stress load on the remaining yokes. This condition, if not detected or corrected, could lead to cracks on the remaining yokes and increased load on the cross-bar, possibly resulting in cross-bar failure and consequently loss of the helicopter. To correct this condition, EASA AD No. 2015-0094 requires repetitive cross-bar inspections and, depending on the findings, replacing the cross-bar.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other products of the same type design.

Related Service Information

Airbus Helicopters has issued Alert Service Bulletin (ASB) No. EC130-05A021 for Model EC130B4 helicopters; ASB No. EC130-05A022 for Model EC130T2 helicopters; ASB No. AS350-05.00.84 for Model AS350B, AS350B1, AS350B2, AS350B3, AS350BA, AS350BB, AS350D, and military Model AS350L1 helicopters; and ASB No. 355-05.00.73 for Model AS355E, AS355F, AS355F1, AS355F2, AS355N, and AS355 NP helicopters (ASBs). All of the ASBs are Revision 0 and dated May 21, 2015. The ASBs specify visually inspecting the cross-bar. If there is any doubt after the visual inspection, the ASBs call for a dye-penetrant inspection to make sure there are no cracks. If a crack is detected, the ASBs call for replacing the cross-bar before further flight and sending the damaged cross-bar to Airbus Helicopters.

Proposed AD Requirements

This proposed AD would require, within certain initial inspection times or the next time any maintenance of the helicopter involves removing the main gearbox, whichever comes first, inspecting each cross-bar for a crack. If there is a crack, this proposed AD would require replacing the cross-bar before further flight. This proposed AD would also require repeating these inspections at the same intervals as the initial inspection. The compliance times in this proposed AD include torque cycles, which are defined for purposes of this AD, as one landing with or without stopping the rotor or one external load-carrying operation. An external load-carrying operation occurs each time a helicopter picks up an external load and drops it off.

Differences Between This Proposed AD and the EASA AD

The EASA AD applies to Airbus Helicopters Model AS350BB helicopters. This proposed AD would not apply to the Model AS350BB because it has no FAA type certificate. However, this proposed AD would apply to Model AS350C and AS350D1 helicopters, while the EASA AD does not. The EASA AD requires a florescent dye-penetrant inspection if the visual inspection of the bi-directional suspension cross-bar causes doubts. This proposed AD would not require a florescent dye-penetrant inspection. The EASA AD requires returning the damaged bi-directional suspension cross-bar to Airbus Helicopters, and this proposed AD would not.

Costs of Compliance

We estimate that this proposed AD would affect 1,132 helicopters of U.S. Registry and that labor costs average $85 a work-hour. Based on these estimates, we expect the following costs:

• Visually inspecting the cross-bar would require 16.5 work-hours for a labor cost of about $1,403. No parts would be needed so that the cost for the U.S. fleet would total $1,588,196 per inspection cycle.

• Replacing the cross-bar would cost $1,630 for parts. No additional labor costs would be needed.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Helicopters: Docket No. FAA-2015-3929; Directorate Identifier 2015-SW-031-AD.

(a) Applicability

This AD applies to Airbus Helicopters Model EC130B4, EC130T2, AS350B, AS350B1, AS350B2, AS350B3, AS350BA, AS350C, AS350D, AS350D1, AS355E, AS355F, AS355F1, AS355F2, AS355N, and AS355NP helicopters with a bi-directional suspension cross-bar (cross-bar) part number (P/N) 350A38-1040-20 or P/N 350A38-1040-00 installed, certificated in any category.

(b) Unsafe Condition

This AD defines the unsafe condition as a crack in a bi-directional cross-bar, which could result in failure of a cross-bar and loss of control of the helicopter.

(c) Comments Due Date

We must receive comments by June 10, 2016

(d) Compliance

You are responsible for performing each action required by this AD within the specified compliance time unless it has already been accomplished prior to that time.

(e) Required Actions

(1) Within the initial inspection times shown in Table 1 to paragraph (e) of this AD or the next time maintenance of the helicopter involves removing the main gearbox, whichever comes first; and thereafter at intervals not to exceed the compliance times shown in Table 1 to paragraph (e) of this AD, inspect each cross-bar for a crack. For purposes of this AD, a torque cycle is defined as one landing with or without stopping the rotor or one external load-carrying operation; an external load-carrying operation occurs each time a helicopter picks up an external load and drops it off.

Table 1 to Paragraph (e)
Helicopter model | Initial and recurrent inspection interval
AS350B, AS350BA, AS350B1, AS350B2, AS350C, AS350D, AS350D1 | 4,500 hours time-in-service (TIS) or 60,000 torque cycles, whichever occurs first.
AS350B3, AS355E, AS355F, AS355F1, AS355F2, AS355N, or AS355 NP | 3,300 hours TIS or 60,000 torque cycles, whichever occurs first.
EC130B4.
EC130T2 | 3,300 hours TIS or 40,000 torque cycles, whichever occurs first.

(2) If there is a crack, before further flight, replace the cross-bar.

(f) Special Flight Permit

Special flight permits are prohibited.

(g) Alternative Methods of Compliance (AMOCs)

(1) The Manager, Safety Management Group, FAA, may approve AMOCs for this AD. Send your proposal to: Robert Grant, Aviation Safety Engineer, Safety Management Group, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

(1) Airbus Helicopters Alert Service Bulletin No. EC130-05A021, No. EC130-05A022, No. AS350-05.00.84, and No. AS355-05.00.73, all Revision 0 and all dated May 21, 2015, which are not incorporated by reference, contain additional information about the subject of this proposed rule. For service information identified in this proposed rule, contact Airbus Helicopters, 2701 N. Forum Drive, Grand Prairie, TX 75052; telephone (972) 641-0000 or (800) 232-0323; fax (972) 641-3775; or at http://www.airbushelicopters.com/techpub. You may review the referenced service information at the FAA, Office of the Regional Counsel, Southwest Region, 10101 Hillwood Pkwy., Room 6N-321, Fort Worth, TX 76177.

(2) The subject of this AD is addressed in European Aviation Safety Agency (EASA) AD No. 2015-0094, dated May 29, 2015. You may view the EASA AD on the Internet at http://www.regulations.gov in the AD Docket.

(i) Subject

Joint Aircraft Service Component (JASC) Code: 6300, Main Rotor Drive.

Issued in Fort Worth, Texas, on March 31, 2016.
James A. Grigg,
Acting Manager, Rotorcraft Directorate, Aircraft Certification Service.

[FR Doc. 2016-07986 Filed 4-8-16; 8:45 am]

BILLING CODE 4910-13-P